DEPARTMENT OF THE INTERIOR

National Park Service

Final General Management Plan/Environmental Impact Statement, Cumberland Gap National Historical Park, Kentucky, Tennessee and Virginia

AGENCY: National Park Service, Department of the Interior.

ACTION: Notice of Availability.

SUMMARY: Pursuant to 42 U.S.C. 4332(2)(C) of the National Environmental Policy Act of 1969 the National Park Service (NPS) announces the availability of a Final General Management Plan and Environmental Impact Statement for the Cumberland Gap National Historical Park, Kentucky, Tennessee, and Virginia.

Consistent with NPS laws, regulations, and policies and the purpose of the Cumberland Gap National Historical Park, the Final GMP/EIS describes the NPS preferred alternative—Alternative C—to guide the management of the National Historical Park over the next 15 to 20 years. The preferred alternative incorporates various management prescriptions to ensure protection, access and enjoyment of the park's resources.

The Final GMP/EIS describes the NPS preferred alternative and the potential environmental consequences of implementing the preferred alternative. Impact topics include the cultural, natural, and socioeconomic environments. The Final GMP/EIS contains NPS responses to public comments on the Draft GMP/EIS, and copies of agency correspondence and substantive comment letters.

DATES: The National Park Service will execute a Record of Decision (ROD) no sooner than 30 days following publication by the Environmental Protection Agency of its Notice of Availability of the Final GMP/EIS in the Federal Register.

ADDRESSES: The document will be available for public review and comment online at http://parkplanning.nps.gov. A limited number of CDs and hard copies will be made available at National Historical Park headquarters. You may also request a hard copy or CD by contacting Cumberland Gap National Historical Park, U.S. 25E South, P.O. Box 1848, Middlesboro, KY 40965-1848; telephone 606-248-2817.

SUPPLEMENTARY INFORMATION: The Draft GMP/EIS evaluated 3 alternatives. Alternative A (No Action) provides a baseline evaluation of existing resource conditions, visitor use, facilities, and management at the park. Alternative A would continue the current management practices into the future. There would be only minor changes in resources management, visitor programs, or facilities. Under Alternative B opportunities for visitor access would be increased by providing additional park facilities as compared to Alternative A. This would expand visitor use of the park, while avoiding and minimizing potential adverse effects on natural and cultural resources. This would be achieved by strategically locating and limiting the numbers and types of new facilities, primarily within the newly established Developed Zones at Fern Lake, areas adjacent to the Hensley Settlement, the Visitor Center area, and the Wilderness Campground. Alternative C would provide a greater amount of visitor access and facilities in the park as compared to Alternative A. Alternative C would also feature increased levels of education, outreach, and formalized partnering. Otherwise, Alternative C would be similar to Alternative B in that it provides slightly expanded visitor access to the park while minimizing the potential for adverse effects on resources. New facilities would be sited and designed within their cultural and natural settings and context. Sustainable practices would be implemented and new facilities would be designed to be unobtrusive.

The Draft GMP/EIS was available for public and agency review from October 16, 2009, through January 8, 2010. Copies of the document were sent to individuals, agencies, organizations, and local libraries. The document was also made available for public review at the park and on the NPS Planning, Environment, and Public Comment Web site (http://parkplanning.nps.gov) in October 2009. Public meetings were held in the Cumberland Gap National Historical Park visitor center auditorium on December 8, 2009 and December 9, 2009. During the review period, the NPS accepted written and oral comments on the document. The NPS carefully reviewed all comments and prepared a report on responses to all substantive comments (Chapter 6). The Final General Management Plan sets forth a vision for the development and operation of Cumberland Gap National Historical Park, Dated: June, 2010.

Authority: The authority for publishing this notice is 40 CFR 1506.6.

FOR FURTHER INFORMATION CONTACT: Cumberland Gap National Historical Park at the address and telephone number shown above.

The responsible official for this Final EIS is the Regional Director, Southeast Region, NPS, 100 Alabama Street SW., 1924 Building, Atlanta, Georgia 30303.

Dated: June 28, 2010.
Gordon Wissinger,
Acting, Regional Director, Southeast Region, National Park Service.

[FR Doc. 2010-19510 Filed 8-6-10; 8:45 am]

BILLING CODE 4310-70-P